FEDERAL COMMUNICATIONS COMMISSION

[Report No. AUC-02-47-D (Auction No. 47); DA 02-3602]

Closed Auction Of Licenses For Cellular Unserved Service Areas Cancelled

AGENCY: Federal Communications Commission.

ACTION: Notice.

SUMMARY: This document announces the cancellation of the auction of seven licenses to provide cellular service in unserved areas scheduled for February 12, 2003.

DATES: Auction No. 47 that was scheduled for February 12, 2003 is cancelled.

FOR FURTHER INFORMATION CONTACT: Kenneth Burnley, Attorney, Auctions and Industry Analysis Division, at (202) 418-0660 or Lisa Stover, Project Manager, Auctions and Industry Analysis Division, at (717) 338-2888.

SUPPLEMENTARY INFORMATION: This is a summary of the Auction No. 47 Cancellation PN released on December 26, 2002. The complete text of the Auction No. 47 Cancellation PN is available for public inspection and copying during regular business hours at the FCC Reference Information Center, Portals II, 445 12th Street, SW., Room CY-A257, Washington, DC, 20554. The Auction No. 47 Cancellation PN may also be purchased from the Commission's duplicating contractor, Qualex International, Portals II, 445 12th Street, SW., Room CY-B402, Washington, DC, 20554, telephone 202-863-2893, facsimile 202-863-2898, or via e-mail qualexint@aol.com.

The Wireless Telecommunications Bureau announces the cancellation of the auction of seven licenses to provide cellular service in unserved areas (“Auction No. 47”) scheduled for February 12, 2003. On December 23, 2002, the Policy and Rules Branch of the Commercial Wireless Division (the “Division”), Wireless Telecommunications Bureau, approved the Joint Motion for Dismissal and Approval of Settlement (“Settlement Agreement”) filed by WWC License L.L.C. and WWC Holding Co, Inc., both wholly-owned subsidiaries of Western Wireless Corporation, and N.E. Colorado Cellular, Inc (DA 02-3573). The Division concluded that the Settlement Agreement resolved the mutual exclusivity of the applications that were filed, thus eliminating the need to conduct this auction.

Federal Communications Commission.
Margaret Wiener,
Chief, Auctions and Industry Analysis Division, WTB.

[FR Doc. 03-2373 Filed 1-31-03; 8:45 am]

BILLING CODE 6712-01-P